DEPARTMENT OF ENERGY

Federal Energy Regulatory Commission

Notice of Competing Preliminary Permit Applications Accepted for Filing and Soliciting Comments, and Motions To Intervene

November 30, 2010.

Project No. 13741-000
Lock + Hydro Friends Fund XLV
Project No. 13748-000
FFP Missouri 9, LLC
Project No. 13771-000
Solia 8 Hydroelectric, LLC
Project No. 13789-000
Point Marion Hydro, LLC

On May 18, 2010, Lock+ Hydro Friends Fund XLV, FFP Missouri 9, LLC, and Solia 8 Hydroelectric, LLC filed applications, and on May 19, 2010, Point Marion Hydro, LLC filed an application pursuant to section 4(f) of the Federal Power Act, proposing to study the feasibility of hydropower at the U.S. Army Corps of Engineers (Corps) Point Marion Lock and Dam located on the Monongahela River in Fayette County, Pennsylvania. The sole purpose of a preliminary permit, if issued, is to grant the permit holder priority to file a license application during the permit term. A preliminary permit does not authorize the permit holder to perform any land-disturbing activities or otherwise enter upon lands or waters owned by others without the owners' express permission.

Descriptions of the proposed Point Marion Lock and Dam Projects:

Lock+ Hydro Friends Fund XLV's project (Project No. 13741-000) would consist of: (1) Two 57-foot-high, 75-foot-long prefabricated concrete walls attached to the downstream side of the Corps dam which would support one frame module; (2) each frame module would be 109 feet long and weigh 1.16 million pounds and contain 10 generating units with a total combined capacity of 19.0 megawatts (MW); (3) a new switchyard containing a transformer; and (4) a proposed 11,000-foot-long, 36.7-kilovolt (kV) transmission line connecting to an existing substation. The proposed project would have an average annual generation of 83.277 gigawatt-hours (GWh), which would be sold to a local utility.

Applicant Contact: Mr. Mark R. Stover, Hydro Green Energy LLC, 5090 Richmond Avenue #390, Houston, TX 77056; phone (877) 556-6566 x711.

FFP Missouri 9, LLC's project (Project No. 13748-000) would consist of: (1) An excavated intake channel slightly longer and wider than the powerhouse; (2) a 200-foot-long, 250-foot-wide, 50-foot-high proposed powerhouse containing two generating units having a total installed capacity of 10.6 MW; (3) an excavated tailrace channel slightly longer and wider than the powerhouse; and (4) a proposed 11,500-foot-long, ranging from 34.0 to 230-kV transmission line. The proposed project would have an average annual generation of 46.4 GWh, which would be sold to a local utility.

Applicant Contact: Ms. Ramya Swaminathan, Free Flow Power Corporation, 33 Commercial Street, Gloucester, MA 01930; phone (978) 283-2822.

Solia 8 Hydroelectric, LLC's project (Project No. 13771-000) would consist of: (1) A proposed 300-foot-long excavated power canal; (2) a 200-foot-long, 250-foot-wide, 50-foot-high proposed powerhouse containing two generating units having a total installed capacity of 10.6 MW; (3) a 200-foot-long excavated tailrace; and (4) a proposed 11,500-foot-long, ranging from 34.0 to 230-kV transmission line. The proposed project would have an average annual generation of 46.4 GWh, which would be sold to a local utility.

Applicant Contact: Mr. Douglas Spaulding, P.E., Nelson Energy, 8441 Wayzata Blvd., Suite 101, Golden Valley, MN 55426; phone (952) 544-8133.

Point Marion Hydro, LLC's project (Project No. 13789-000) would consist of: (1) A proposed 180-foot-long excavated power canal; (2) a proposed powerhouse containing two generating units having a total installed capacity of 5.6 MW; (3) a 130-foot-long excavated tailrace; and (4) a proposed 3.0-mile-long, 69.0-kV transmission line. The proposed project would have an average annual generation of 18.6 GWh, which would be sold to a local utility.

Applicant Contact: Mr. Brent Smith, Symbiotics, LLC., P.O. Box 535, Rigby, ID 83442; phone (208) 745-0834.

FERC Contact: Tim Looney (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's website http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's website at http://www.ferc.gov/docs-filing/elibrary.asp. Enter the docket number (P-13741-000, 13748-000, 13771-000, or 13789-000) in the docket number field to access the document. For assistance, contact FERC Online Support.

Kimberly D. Bose,
Secretary.

[FR Doc. 2010-30595 Filed 12-6-10; 8:45 am]

BILLING CODE 6717-01-P